DEPARTMENT OF TRANSPORTATION

Federal Aviation Administration

14 CFR Part 39

[Docket No. FAA-2013-0446; Directorate Identifier 2010-SW-007-AD]

RIN 2120-AA64

Airworthiness Directives; Eurocopter Deutschland GmbH Model Helicopters

AGENCY: Federal Aviation Administration (FAA) DOT.

ACTION: Notice of proposed rulemaking (NPRM).

SUMMARY: We propose to adopt a new airworthiness directive (AD) for Eurocopter Deutschland GmbH (Eurocopter) Model EC135 P1, P2, P2+, T1, T2, and T2+ helicopters to require inspecting each linear transducer bearing (bearing) for freedom of movement. This proposed AD would also require replacing the bearing if there is binding or rough turning or if there is chafing or damage on the lower side of the floor. Also, this proposed AD would require modifying and re-identifying a certain rod. This proposed AD is prompted by an incident involving limited control of a tail rotor because of the binding of a bearing. The proposed actions are intended to detect and replace each bearing subject to binding, which could lead to subsequent loss of control of the helicopter.

DATES: We must receive comments on this proposed AD by July 22, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact American Eurocopter Corporation, 2701 N. Forum Drive, Grand Prairie, TX 75052, telephone (972) 641-0000 or (800) 232-0323, fax (972) 641-3775, or at http://www.eurocopter.com/techpub. You may review the referenced service information at the FAA, Office of the Regional Counsel, Southwest Region, 2601 Meacham Blvd., Room 663, Fort Worth, Texas 76137.

FOR FURTHER INFORMATION CONTACT: Matt Fuller, Senior Aviation Safety Engineer, Safety Management Group, Rotorcraft Directorate, FAA, 2601 Meacham Blvd., Fort Worth, Texas 76137; telephone (817) 222-5110; email matthew.fuller@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

The European Aviation Safety Agency (EASA), which is the Technical Agent for the Member States of the European Union, has issued EASA AD No. 2006-0318 R1, dated October 27, 2006, to correct an unsafe condition for all Eurocopter Model EC 135 helicopters. EASA advises of an incident in which impaired control of an EC 135 tail rotor was detected. EASA states that according to examinations, the bearing of the linear transducer was subject to binding, which limited the control range.

FAA's Determination

These helicopters have been approved by the aviation authority of Germany and are approved for operation in the United States. Pursuant to our bilateral agreement with Germany, EASA, its technical representative, has notified us of the unsafe condition described in its AD. We are proposing this AD because we evaluated all known relevant information and determined that an unsafe condition exists and is likely to exist or develop on other helicopters of these same type designs.

Related Service Information

Eurocopter has issued Alert Service Bulletin EC135-67A-012, Revision 1, dated October 18, 2006 (ASB), which specifies inspecting the bearing of the linear transducer for freedom of movement and the lower side of the floor for chafing or damage. If there is binding, the ASB specifies replacing the bearing. If there is chafing or damage on the floor, the ASB specifies replacing the bearing and repairing the floor. The ASB also specifies modifying and reidentifying a certain rod. EASA classified this ASB as mandatory and issued EASA AD 2006-0318 R1, dated October 27, 2006, to ensure the continued airworthiness of these helicopters.

Proposed AD Requirements

This proposed AD would require, at specified intervals, inspecting each bearing for freedom of movement. If there is binding or rough turning, this proposed AD would require, before further flight, replacing the bearing or if there is chafing or damage on the lower side of the floor, replacing the bearing and repairing the floor, and, thereafter, installing a Teflon strip. This proposed AD would also require modifying the rod and re-identifying the rod and lever with a new part number.

Differences Between This Proposed AD and the EASA AD

This proposed AD does not refer to the compliance date of October 31, 2006, because that date has passed; instead we propose compliance within 100 hours TIS. The proposed AD would not require contacting Eurocopter customer support. This proposed AD would require modifying each rod within 100 hours TIS, rather than within 800 hours TIS as specified in the EASA AD.

Costs of Compliance

We estimate that this proposed AD would affect 214 helicopters of U.S. Registry. We estimate that operators may incur the following costs in order to comply with this AD: It would take about 10 work-hours to inspect the bearing for freedom of movement at an average labor rate of $85 per work hour. No parts or materials are required for the inspection. Based on these estimates, the cost would be $850 per helicopter or $181,900 for the fleet of all U.S.-registered helicopters. If necessary, replacing the bearing would require 3 additional work-hours, and parts would cost $50. Repairing the floor would require 3 additional work hours and minimal cost for materials.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new Airworthiness Directive (AD):

Eurocopter Deutschland GmbH: Docket No. FAA-2013-0446; Directorate Identifier 2010-SW-007-AD.

(a) Applicability

This AD applies to Model EC135 P1, P2, P2+, T1, T2, and T2+ helicopters, with bearing, part number (P/N) LN9367GE6N2; rod, P/N L671M5040205; lever, P/N L671M5040101; and floor, P/N L533M1014101, L533M1014102, L533M1014103, L533M1014104, L533M1014105 or L533M1014106, installed, certificated in any category.

(b) Unsafe Condition

This AD defines the unsafe condition as limited control of a tail rotor because of the binding of a bearing. This condition could result in subsequent loss of control of the helicopter.

(c) Compliance

You are responsible for performing each action required by this AD within the specified compliance time unless it has already been accomplished prior to that time.

(d) Required Actions

(1) Within 100 hours time-in-service (TIS) and thereafter at intervals not to exceed 800 hours TIS, inspect each bearing for freedom of movement by turning and tilting the bearing as depicted in Figure 2 of Eurocopter Alert Service Bulletin No. EC135-67A-012, Revision 1, dated October 18, 2006 (ASB). During any inspection:

(i) If there is binding or rough turning, before further flight, replace the bearing with an airworthy bearing.

(ii) If there is chafing on the lower side of the floor that does not extend through the panel outer layer, before further flight, replace the bearing with an airworthy bearing.

(iii) If there is damage on the lower side of the floor in the area of the assembly opening that extends through the panel outer layer (revealing an open honeycomb cell or layer), before further flight, replace the bearing with an airworthy bearing and repair the floor.

(2) After performing the actions in (d)(1)(i) through (iii) of this AD, before further flight, install a Teflon strip and identify the floor by following the Accomplishment Instructions, paragraphs 3.E.(1) through 3.E.(4), of the ASB.

(3) Within 100 hours TIS, modify and re-identify the rod as depicted in Figure 1 of the ASB and by following the Accomplishment Instructions, paragraphs 3.H.(1) through 3.H.(3)(f), of the ASB.

(e) Alternative Methods of Compliance (AMOC)

(1) The Manager, Safety Management Group, FAA, may approve AMOCs for this AD. Send your proposal to: Matt Fuller, Senior Aviation Safety Engineer, Safety Management Group, Rotorcraft Directorate, FAA, 2601 Meacham Blvd., Fort Worth, Texas 76137; telephone (817) 222-5110; email matthew.fuller@faa.gov.

(2) For operations conducted under 14 CFR part 119 operating certificate or under 14 CFR part 91, subpart K, we suggest that you notify your principal inspector, or lacking a principal inspector, the manager of the local flight standards district office or certificate holding district office before operating any aircraft complying with this AD through an AMOC.

(f) Additional Information

(1) For service information identified in this AD, contact American Eurocopter Corporation, 2701 N. Forum Drive, Grand Prairie, TX 75052, telephone (972) 641-0000 or (800) 232-0323, fax (972) 641-3775, or at http://www.eurocopter.com/techpub. You may review copies of the service information at the FAA, Office of the Regional Counsel, Southwest Region, 2601 Meacham Blvd., Room 663, Fort Worth, Texas 76137.

(2) The subject of this AD is addressed in European Aviation Safety Agency AD No. 2006-0318 R1, dated October 27, 2006.

(g) Subject

The Joint Aircraft System/Component (JASC) Code is 6720: Tail Rotor Control System.

Issued In Fort Worth, Texas, on May 14, 2013.
Kim Smith,
Directorate Manager, Rotorcraft Directorate, Aircraft Certification Service.

[FR Doc. 2013-12309 Filed 5-22-13; 8:45 am]

BILLING CODE 4910-13-P